Proclamation 8856 of August 31, 2012

National Wilderness Month, 2012

By the President of the United States of America

A Proclamation

For centuries, America's dramatic landscapes have attracted people from around the world to begin new lives and develop thriving communities on our lands. Today, our wilderness areas reflect an essential part of our national character, and as a people, we are immeasurably richer for their presence. Protected wilderness areas are recreational escapes for families, natural classrooms for students, living laboratories for scientists, irreplaceable retreats for sportsmen and women, and historical treasures for the American people. These landscapes provide clean air, clean water, and essential habitats for fish and wildlife, and they serve as critical storehouses of biodiversity. From mountains and meadows to river valleys and forests, our lands and waters also help drive local economies by creating jobs in tourism and recreation. Our open spaces are more precious today than ever before, and it is essential that we come together to protect them for the next generation.

American conservation practices inspired countries around the world during the 20th century, and my Administration is working to carry that legacy forward during the 21st. In my first months as President, I was proud to sign a public lands bill that designated more than 2 million acres of wilderness, over 1,000 miles of wild and scenic rivers, and three National Parks. We also launched the America's Great Outdoors Initiative, which laid the foundation for a comprehensive, community-driven conservation strategy that continues to engage Americans in protecting and increasing access to our natural heritage. Today, projects spanning from the Atlantic to the Pacific are helping create and enhance parks, renew and restore our rivers, and conserve our iconic open spaces.

Generations of visionary leaders and communities have given of themselves to preserve our wild landscapes, fulfilling a responsibility that falls to us all as Americans and as inhabitants of this small planet. During National Wilderness Month, let us celebrate the progress we have made toward meeting that essential challenge, and let us recommit to protecting the land we love for centuries to come.

NOW, THEREFORE, I, BARACK OBAMA, President of the United States of America, by virtue of the authority vested in me by the Constitution and the laws of the United States, do hereby proclaim September 2012 as National Wilderness Month. I invite all Americans to visit and enjoy our wilderness areas, to learn about their vast history, and to aid in the protection of our precious national treasures.

IN WITNESS WHEREOF, I have hereunto set my hand this thirty-first day of August, in the year of our Lord two thousand twelve, and of the Independence of the United States of America the two hundred and thirty-seventh.

[FR Doc. 2012-22152

Filed 9-5-12; 11:15 am]

Billing code 3295-F2-P